DEPARTMENT OF THE INTERIOR

Bureau of Land Management

[FXRS126108DEST0 134F1611MD FF08RDSC00; N-54955]

Notice of Application for Withdrawal Extension, and Notification of a Public Meeting, Desert National Wildlife Range; Nevada

AGENCY: Bureau of Land Management, Interior.

ACTION: Notice.

SUMMARY: The Assistant Secretary of the Interior for Policy, Management and Budget proposes to extend the duration of Public Land Order (PLO) No. 7070 for an additional 20-year term. PLO No. 7070 withdrew approximately 769,543 acres of public mineral estate from location and entry under the United States mining laws, to protect the wildlife habitat and unique values within the Desert National Wildlife Range in Clark and Lincoln Counties, Nevada. The proposed extension would apply to 768,997 acres as determined from an updated land description review. This notice gives an opportunity for the public to comment on the proposed withdrawal extension and announces the date, time, and location of a public meeting.

DATES: For a period until December 23, 2013, all persons who wish to submit comments, suggestions, or objections in connection with the proposed withdrawal extension may do so in writing. A public meeting will be held on October 29, 2013, from 12 noon to 2 p.m. at the Bureau of Land Management, Southern Nevada District Office, 4701 Torrey Pines Drive, Las Vegas, Nevada. A notice of the time and place will also be published in at least one local newspaper of general circulation no less than 30 days before the scheduled meeting date.

ADDRESSES: Written comments should be sent to the Bureau of Land Management, Attn: District Manager, Southern Nevada District Office, 4701 N. Torrey Pines Drive, Las Vegas, Nevada 89130.

FOR FURTHER INFORMATION CONTACT: Cheryl G. Cote, Bureau of Land Management at 702-515-5104, email: ccote@blm.gov. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The withdrawal created by PLO 7070 (59 FR 39701), will expire on August 4, 2014, unless extended. The United States Fish and Wildlife Service (FWS) has filed a petition/application to extend the withdrawal created by PLO No. 7070 for an additional 20-year term with respect to the following described Federal lands:

Mount Diablo Meridian

T. 15 S., R. 54 E., unsurveyed,

Sec. 1;

Sec. 2, E½ and E½W½;

Sec. 11, E½ and E½W½;

Secs. 12 and 13;

Sec. 14, E½ and E½W½;

Sec. 23, E½ and E½W½;

Secs. 24 and 25;

Sec. 26, E½ and E½W½;

Sec. 35, E½ and E½W½;

Sec. 36.

T. 15 S., R. 55 E., unsurveyed.

T. 16 S., R. 57 E., partially surveyed,

Sec. 7, NW¼ and S½.

T. 16 S., R. 58 E., unsurveyed,

Secs. 11 thru 14, inclusive;

Secs. 23 thru 26, inclusive;

Secs. 35 and 36.

T. 15 S., R. 59 E., unsurveyed,

Secs. 2 thru 11, inclusive;

Secs. 14 thru 23, inclusive;

Secs. 26 thru 35, inclusive.

T. 16 S., R. 59 E., unsurveyed,

Secs. 2 thru 11, inclusive;

Secs. 14 thru 23, inclusive;

Secs. 26 thru 35, inclusive.

T. 17 S., R. 59 E.,

Secs. 1thru 5, inclusive;

Sec. 7, lots 3 and 4, NE¼, and S½;

Secs. 8 thru 18, inclusive;

Secs. 21 thru 26, inclusive;

Sec. 27, N½;

Secs. 28 and 33;

Sec. 34, S½S½ and NE¼SE¼;

Secs. 35 and 36.

Tps. 9, 10, 11, 12, 12½, 13, 14, 15, and 16 S., R. 60 E., unsurveyed.

T. 17 S., R. 60 E.

T. 18 S., R. 60 E.,

Secs. 1 thru 18, inclusive;

Secs. 22 thru 24, inclusive;

Sec. 25, N½;

Sec. 26, N½;

Sec. 27, N½.

Tps. 9, 10, 11, 12, 12½, 13, 14, 15, and 16 S., R. 61 E., unsurveyed.

Tps. 17 and 18 S., R. 61 E.

T. 9 S., R. 62 E.,

Sec. 4, S½S½;

Sec. 5, NW¼SW¼ and S½S½;

Sec. 6, lots 2 to 7, inclusive, and S½NE¼, SE¼NW¼, E½SW¼, and SE¼;

Secs. 7, 8, and 9;

Sec. 10, W½E½ and W½;

Sec. 15, W½E½ and W½;

Secs. 16 thru 21, inclusive;

Sec. 22, W½E½ and W½;

Sec. 27, W½E½ and W½;

Secs. 28 thru 33, inclusive;

Sec. 34, lots 1, 2, and 3, W½NE¼, NW¼, N½SW¼, and NW¼SE¼.

T. 10 S., R. 62 E.,

Secs. 3 thru 10, inclusive;

Sec. 14, SE¼NW¼, W½W½, and E½SW¼;

Secs. 15 thru 22, inclusive;

Sec. 23, W½ and W½SE¼;

Secs. 26 thru 35, inclusive;

Sec. 36, W½W½.

T. 11 S., R. 62 E., partially surveyed,

Sec. 1, W½W½;

Secs. 2 thru 12, inclusive;

Sec. 13, E½, NE¼NW¼, W½W½, and E½SW¼;

Secs. 14 thru 36, inclusive.

T. 12 S., R. 62 E., partially surveyed.

Tps. 12½, 13, 14, 15, and 16 S., R. 62 E., unsurveyed.

Tps. 17 and 18 S., R. 62 E.

The areas described above aggregate approximately 768,997 acres in Clark and Lincoln Counties. The legal descriptions of the unsurveyed lands are based on what normal survey subdivision units would be when surveyed.

The lands withdrawn by PLO No. 7070 are located about 20 miles northwest of Las Vegas, Nevada. The purpose of the withdrawal extension is to protect, enhance, and maintain wildlife resources, including bighorn sheep on one of the largest and last reasonably intact examples of Mojave Desert landscape habitats.

The use of a right-of-way, interagency agreement, or cooperative agreement would not provide adequate protection for the wildlife habitat and unique resource values within the Desert National Wildlife Range.

No additional water rights would be needed to fulfill the purpose of the requested withdrawal extension.

There are no suitable alternative sites since the lands described herein contain the natural and biological resources of interest for protection.

All persons who wish to submit comments, suggestions, or objections in connection with the proposed withdrawal extension may present their views in writing to the BLM Southern Nevada District Office, at the address indicated above. Comments, including names and street addresses of respondents, will be available for public review at the address stated above, during regular business hours, 7:30 a.m. to 4:30 p.m., Monday through Friday, except Federal holidays.

Before including your address, phone number, email address, or other personal identifying information in your comment, you should be aware that your entire comment—including your personal identifying information—may be made publicly available at any time. While you can ask us in your comment to withhold your personal identifying information from public review, we cannot guarantee that we will be able to do so.

Notice is hereby given that a public meeting will be held in connection with the proposed withdrawal extension. Information on the meeting is listed under the “DATES” heading of this notice. Interested parties may file written statements at the meeting. All statements received will be considered before any recommendation concerning the proposed extension is submitted to the Assistant Secretary of the Interior for final action.

This application will be processed in accordance with the regulations set forth in 43 CFR 2310.4.

Marci L. Todd,
Associate State Director, Nevada.

[FR Doc. 2013-23155 Filed 9-23-13; 8:45 am]

BILLING CODE 4310-55-P